POSTAL REGULATORY COMMISSION

[Docket No. PI2025-1; Order No. 7676]

Public Inquiry on Modification of Service Performance Measurement Plan

AGENCY: Postal Regulatory Commission.

ACTION: Notice.

SUMMARY: The Commission is recognizing a recently filed Postal Service request proposing modifications to its Service Performance Measurement Plan for Market Dominant products and related measurement changes. This notice informs the public of the filing, invites public comment, and takes other administrative steps.

DATES: Comments are due: November 19, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On October 4, 2024, the Postal Service filed a notice, pursuant to 39 CFR 3055.5, proposing revisions to its Service Performance Measurement (SPM) Plan for Market Dominant products.¹ The Postal Service also, pursuant to 39 U.S.C. 3691(b)(2), requests approval to apply an existing internal service performance measurement system to USPS Connect Local Mail. Notice at 1. The most recent version of the SPM Plan that is the subject of this proceeding was approved for implementation on May 7, 2024, in Docket No. PI2024-1.² Accompanying the Notice is a library reference, which contains a copy of the Postal Service's SPM Plan, revised October 4, 2024 (both redline and clean versions).³

¹ United States Postal Service Notice Concerning Service Standards Measurement for USPS Connect Local and Request for Use of Internal Measurement System, October 4, 2024, at 1 (Notice).

² Docket No. PI2024-1, Order Approving Modifications to Service Performance Measurement Plan for Market Dominant Products and Related Measurement Changes, May 7, 2024 (Order No. 7084). See Docket No. PI2024-1, Library Reference USPS-LR-PI2024-1-1, March 18, 2024, PDF file “iSPM_RevPlan_BLACK-LINE—03-18-2024.pdf.”

³ Library Reference USPS-LR-PI2025-1-1, October 4, 2024, PDF files “iSPM RevPlan ConnectLocal_Redline.pdf” and “iSPM RevPlan ConnectLocal_Blackline.pdf.”

On November 10, 2021, the Postal Service announced its intention to conduct a market test of an experimental product denominated as USPS Connect Local Mail.⁴ USPS Connect Local Mail is a same day/overnight delivery product intended for local delivery, enabling customers to deposit USPS Connect Local Mail items at participating Destination Delivery Units (DDUs) or present them to mail carriers along their lines of travel to participating DDUs. Notice at 3. The Commission authorized the proposed market test on January 4, 2022.⁵ On October 11, 2022, the Postal Service requested that USPS Connect Local Mail be converted to a permanent offering.⁶ On January 20, 2023, the Commission dismissed the Postal Service's request without prejudice, finding that the Postal Service's request was premature and that significant issues had been raised by commenters with respect to whether USPS Connect Local Mail as proposed would violate 39 U.S.C. 404a—issues which the Commission found had not been adequately addressed on the record before it at that time.⁷ The Commission stated that the Postal Service was free to “refile its request once it has resolved the issues related to section 404a.” Order No. 6423 at 15. The Postal Service has now done so, refiling its request in a companion docket to the instant one.⁸

⁴ Docket No. MT2022-1, United States Postal Service Notice of Market Test of Experimental Product—USPS Connect Local Mail, November 10, 2021.

⁵ Docket No. MT2022-1, Order Authorizing Market Test of Experimental Product—USPS Connect Local Mail, January 4, 2022 (Order No. 6080).

⁶ Docket No. MC2023-12, United States Postal Service Request to Convert USPS Connect Local Mail to a Permanent Offering, October 11, 2022.

⁷ Docket No. MC2023-12, Order Dismissing Without Prejudice the Postal Service's Revised Request to Convert USPS Connect Local Mail Market Test to a Permanent Offering, January 20, 2023 (Order No. 6423); Docket No. PI2023-1, Order Dismissing Without Prejudice Notice of Intent to Establish New Service Standards, Proposed Modifications to Service Performance Measurement Plan for Market Dominant Products, and Request to Use Internal Service Performance Measurement System, January 20, 2023 (Order No. 6424). The Commission had previously also dismissed without prejudice a separate request in the same docket to convert USPS Connect Local Mail to a permanent offering, for procedural reasons. See Docket No. MC2023-12, Order Dismissing Without Prejudice Postal Service's Request to Convert USPS Connect Local Mail Market Test to a Permanent Offering, October 17, 2022 (Order No. 6301).

⁸ See Docket No. MC2025-19, United States Postal Service Request to Convert USPS Connect Local Mail to a Permanent Offering, October 3, 2024.

In this docket, the Postal Service states that “[a]ssuming [its current request to convert USPS Connect Local Mail into a permanent offering] [is] adopted in accordance with the expected date of implementation of January 1, 2025, the Postal Service plans to add USPS Connect Local Mail as a price category within First-Class Mail Flats.” Notice at 4. To that end, the Postal Service, pursuant to 39 CFR 3055.5, proposes revisions to the SPM Plan. See id. at 5. Specifically, the Postal Service proposes to modify the existing SPM Plan to add USPS Connect Local Mail, describe the approach that will be followed to measure its service performance, and identify when such performance measurements will be reported. Id.

The Postal Service also, pursuant to 39 U.S.C. 3691(b)(2), requests approval to apply internal service performance measurement to USPS Connect Local Mail. Id. at 5-6. Specifically, the Postal Service proposes using its existing internal Intelligent Mail package barcode (IMpb) system, which employs automated equipment to sort and track mailpieces. Id. at 6. The Postal Service proposes using IMpb tracking barcodes at acceptance and delivery to measure service performance for USPS Connect Local Mail. Id.

With respect to the service standard to be applied to USPS Connect Local Mail, the Postal Service states that:

On November 30, 2022, 39 [CFR] 121.1 was revised to establish a same-day service standard for USPS Connect Local Mail items accepted . . . at a participating DDU by the Critical Entry Time (CET) and to establish a next-day service standard for USPS Connect Local Mail for items picked-up by a carrier or accepted at a participating DDU after that day's CET.

Notice at 4. The Postal Service explains that this would remain the applicable service standard for USPS Connect Local Mail should it be converted to a permanent offering. Id.

Interested persons are invited to comment on the Postal Service's proposed revisions to its SPM Plan and request to use internal service performance measurement for USPS Connect Local Mail. Comments are due November 19, 2024. The Commission does not anticipate the need for reply comments at this time. The Commission intends to evaluate the comments received and use those suggestions to help carry out its service performance measurement responsibilities under Title 39 of the United States Code. Material filed in this docket will be available for review on the Commission's website, http://www.prc.gov. The Commission appoints Christopher C. Mohr to represent the interests of the general public (Public Representative) in this docket.

It is ordered:

1. Docket No. PI2025-1 is established for the purpose of considering the Postal Service's proposed revisions to its Service Performance Measurement Plan for Market Dominant products and request to use internal service performance measurement for USPS Connect Local Mail.

2. Interested persons may submit written comments on any or all aspects of the Postal Service's proposals no later than November 19, 2024.

3. Christopher C. Mohr is designated to represent the interests of the general public in this docket.

4. The Secretary shall arrange for publication of this Notice in the Federal Register.

By the Commission.
Erica A. Barker,
Secretary.

[FR Doc. 2024-23711 Filed 10-11-24; 8:45 am]

BILLING CODE 7710-FW-P